DEPARTMENT OF TRANSPORTATION

Federal Aviation Administration

14 CFR Part 73

[Docket No. FAA-2005-22400; Airspace Docket No. 05-AWP-10]

RIN 2120-AA66

Amendment to Using Agency for Restricted Areas R-2510 A & B; El Centro, CA

AGENCY: Federal Aviation Administration (FAA), DOT.

ACTION: Final rule.

SUMMARY: This action changes the using agency of Restricted Areas R-2510A & R-2510B, from “CO, Yuma MCAS, AZ,” to “Commanding Officer, U.S. Navy Fleet Area Control and Surveillance Facility, San Diego, CA.” The FAA is taking this action in response to a request from the United States Navy to reflect an administrative change of responsibility for the restricted areas. There are no changes to the boundaries; designated altitudes; time of designation; or activities conducted within the affected restricted areas.

EFFECTIVE DATE: 0901 UTC, December 22, 2005.

FOR FURTHER INFORMATION CONTACT: Ken McElroy, Airspace and Rules, Office of System Operations Airspace and AIM, Federal Aviation Administration, 800 Independence Avenue, SW., Washington, DC 20591; telephone: (202) 267-8783.

SUPPLEMENTARY INFORMATION:

The Rule

This action amends Title 14 Code of Federal Regulations (14 CFR) part 73 by changing the using agency of R-2510 A & B, El Centro, CA. On July 18, 2005, the U.S. Navy requested that the FAA change the using agency from “CO, Yuma MCAS, AZ,” to “Commanding Officer, U.S. Navy Fleet Area Control and Surveillance Facility, San Diego, CA.” This action addresses that request. This is an administrative change and does not affect the boundaries; designated altitudes; or activities conducted within the restricted areas. Therefore, notice and public procedure under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1E, Policies and Procedures for Considering Environmental Impacts. This airspace action is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.25 [Amended]

2. § 73.25 is amended as follows:

* * * * *

R-2510A El Centro, CA [Amended]

By removing the words “Using agency. CO, Yuma MCAS, AZ,” and inserting the words “Using agency. Commanding Officer, U.S. Navy Fleet Area Control and Surveillance Facility, San Diego, CA.”

* * * * *

R-2210B El Centro, CA [Amended]

By removing the words “Using agency. CO, Yuma MCAS, AZ,” and inserting the words “Using agency. Commanding Officer, U.S. Navy Fleet Area Control and Surveillance Facility, San Diego, CA.”

* * * * *

Issued in Washington, DC, on September 12, 2005.
Edith V. Parish,
Acting Manager, Airspace and Rules.

[FR Doc. 05-18503 Filed 9-16-05; 8:45 am]

BILLING CODE 4910-13-P